DEPARTMENT OF TRANSPORTATION

Federal Aviation Administration

14 CFR Part 39

[Docket No. FAA-2005-20661; Directorate Identifier 2004-NM-261-AD]

RIN 2120-AA64

Airworthiness Directives; Boeing Model 747-200B, 747-300, 747-400, and 747-400D Series Airplanes

AGENCY: Federal Aviation Administration (FAA), Department of Transportation (DOT).

ACTION: Notice of proposed rulemaking (NPRM).

SUMMARY: The FAA proposes to adopt a new airworthiness directive (AD) for certain Boeing Model 747-200B, 747-300, 747-400, and 747-400D series airplanes. This proposed AD would require modifying the lateral shear beam for the Door 5 crew rest and, for certain airplanes, replacing Zone E tie rods and modifying the Zone E stowbin ladder. This proposed AD is prompted by a report indicating that the lateral shear beam for the Door 5 crew rest does not meet the 9G forward loading requirement. We are proposing this AD to prevent the structural support for the Door 5 crew rest and Zone E stowbins from failing during an emergency, which could result in the crew rest or stowbins falling and consequent injury to crew and passengers.

DATES: We must receive comments on this proposed AD by May 6, 2005.

ADDRESSES: Use one of the following addresses to submit comments on this proposed AD.

• DOT Docket web site: Go to http://dms.dot.gov and follow the instructions for sending your comments electronically.

• Government-wide rulemaking web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street SW., room PL-401, on the plaza level of the Nassif Building, Washington, DC. This docket number is FAA-2005-20661; the directorate identifier for this docket is 2004-NM-261-AD.

FOR FURTHER INFORMATION CONTACT: Don Wren, Aerospace Engineer, Cabin Safety and Environmental Systems Branch, ANM-150S, FAA, Seattle Aircraft Certification Office, 1601 Lind Avenue, SW., Renton, Washington 98055-4056; telephone (425) 917-6451; fax (425) 917-6590.

SUPPLEMENTARY INFORMATION:

Comments Invited

We invite you to submit any relevant written data, views, or arguments regarding this proposed AD. Send your comments to an address listed under ADDRESSES. Include “Docket No. FAA-2005-20661; Directorate Identifier 2004-NM-261-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received a report indicating that the lateral shear beam for the Door 5 crew rest does not meet the 9G forward loading requirement on certain Boeing Model 747 series airplanes. This condition, if not corrected, could result in the failure of the structural support for the Door 5 crew rest and Zone E stowbins, and could result in the crew rest or stowbins falling during an emergency and consequent injury to crew and passengers.

Relevant Service Information

We have reviewed Boeing Special Attention Service Bulletin 747-53-2497, dated November 4, 2004 (for Boeing Model 747-200B and -300 series airplanes), which describes procedures for modifying the lateral shear beam for the Door 5 crew rest. The modification includes replacing the web with a new thicker web and installing additional stiffeners.

We have also reviewed Boeing Special Attention Service Bulletin 747-53-2481, dated October 24, 2002 (for Boeing Model 747-400 and -400D series airplanes), which describes procedures for modifying the lateral shear beam for the Door 5 crew rest and replacing Zone E tie rods with new tie rods and modifying the Zone E stowbin ladder by installing new intercostals.

Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in the service information described previously, except as discussed under “Differences Between the Proposed AD and the Service Bulletins.”

Differences Between the Proposed AD and the Service Bulletins

Boeing Special Attention Service Bulletin 747-53-2497 recommends accomplishing the modification “at the earliest opportunity when manpower, materials and facilities are available,” and Boeing Special Attention Service Bulletin 747-53-2481 recommends accomplishing the modification “within 3 years of the release date on the service bulletin.” However, this proposed AD specifies accomplishing the modification within 60 months after the effective date of the AD. In developing an appropriate compliance time for this AD, we considered the degree of urgency associated with addressing the subject unsafe condition, the average utilization of the affected fleet, and the time necessary to perform the modification. In light of all of these factors, we find a compliance time of 60 months for completing the proposed modification to be warranted, in that it represents an appropriate interval of time for affected airplanes to continue to operate without compromising safety. We have coordinated this compliance time with the manufacturer.

Costs of Compliance

There are about 424 airplanes of the affected design in the worldwide fleet. This proposed AD would affect about 65 airplanes of U.S. registry. The following table provides the estimated costs for U.S. operators to comply with this proposed AD.

Estimated Costs
Action | Work hours | Average labor rate per hour | Parts | Cost per airplane | Number of U.S.-registered airplanes | Fleet cost
Modification | 86-207 | $65 | $7,095-$37,770 | $12,685-$51,225 | 65 | $824,525-$3,329,625

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-20661; Directorate Identifier 2004-NM-261-AD.

Comments Due Date

(a) The Federal Aviation Administration (FAA) must receive comments on this AD action by May 6, 2005.

Affected ADs

(b) None.

Applicability

(c) This AD applies to the Boeing airplanes, certificated in any category, specified in paragraphs (c)(1), (c)(2), and (c)(3) of this AD.

(1) Model 747-200B and 747-300 series airplanes identified in Boeing Special Attention Service Bulletin 747-53-2497, dated November 4, 2004.

(2) Model 747-200B and 747-300 series airplanes on which Boeing Service Bulletins 747-25-2716, 747-25-2724, and 747-25-2784 have been done.

(3) Model 747-400 and 747-400D series airplanes identified in Boeing Special Attention Service Bulletin 747-53-2481, dated October 24, 2002.

Unsafe Condition

(d) This AD was prompted by a report that the lateral shear beam for the Door 5 crew rest does not meet the 9G forward loading requirement. We are issuing this AD to prevent the structural support for the Door 5 crew rest and Zone E stowbins from failing, which could result in the crew rest or stowbins falling during an emergency and consequent injury to crew and passengers.

Compliance

(e) You are responsible for having the actions required by this AD performed within the compliance times specified, unless the actions have already been done.

Model 747-200B and 747-300: Modification

(f) Within 60 months after the effective date of this AD, modify the lateral shear beam for the Door 5 crew rest by accomplishing all of the actions specified in the Accomplishment Instructions of Boeing Special Attention Service Bulletin 747-53-2497, dated November 4, 2004.

Model 747-400 and 747-400D: Modification and Replacement

(g) Within 60 months after the effective date of this AD, modify the lateral shear beam for the Door 5 crew rest, replace the Zone E tie rods, and modify the Zone E stowbin ladder, by accomplishing all of the actions specified in the Accomplishment Instructions of Boeing Special Attention Service Bulletin 747-53-2481, dated October 24, 2002.

Alternative Methods of Compliance (AMOCs)

(h) The Manager, Seattle Aircraft Certification Office (ACO), FAA, has the authority to approve AMOCs for this AD, if requested in accordance with the procedures found in 14 CFR 39.19.

Issued in Renton, Washington, on March 9, 2005.
Ali Bahrami,
Manager, Transport Airplane Directorate, Aircraft Certification Service.

[FR Doc. 05-5571 Filed 3-21-05; 8:45 am]

BILLING CODE 4910-13-P